DEPARTMENT OF TRANSPORTATION

Federal Highway Administration

National Highway Traffic Safety Administration

Guidance on Red Light Camera Systems

AGENCIES: Federal Highway Administration (FHWA), National Highway Traffic Safety Administration (NHTSA), DOT.

ACTION: Notice; issuance of guidance.

SUMMARY: This notice announces that the FHWA and the NHTSA have issued guidance on the installation and use of red light camera systems. The guidance, “Guidance for Using Red Light Cameras,” is available at the following URLs: http://safety.fhwa.dot.gov/rlcguide/index.htm and http://www.nhtsa.dot.gov/people/injury/enforce/guidance03/introduction.htm. As the use of cameras to issue citations to motorists running red lights is becoming increasingly widespread throughout the United States, the installation and operation of these cameras has been inconsistent. The agencies intend for this guide to provide relevant information on implementation and operational concerns of red light camera systems to State and local agencies in order to promote consistency nationwide.

FOR FURTHER INFORMATION CONTACT: For FHWA: Mr. Hari Kalla, Office of Safety, HSA-10, (202) 366-5915, or Mr. Raymond Cuprill, Office of the Chief Counsel, HCC-30, (202) 366-0761. FHWA office hours are from 7:45 a.m. to 4:15 p.m., Monday through Friday, except Federal holidays. For NHTSA: Mr. Earl Hardy, Office of Traffic Injury Control. NTI-122, (202) 366-4295. NHTSA office hours are from 8:30 a.m. to 5 p.m., Monday through Friday, except Federal holidays. Both offices are located at 400 Seventh Street, SW., Washington, DC 20590.

SUPPLEMENTARY INFORMATION:

Electronic Access

An electronic copy of this notice may be downloaded using a computer, modem and suitable communications software from the Government Printing Office's Electronic Bulletin Board Service at (202) 512-1661. Internet users may reach the Office of the Federal Register's home page at http://www.archives.gov and the Government Printing Office's Web site at http://www.access.gpo.gov. An electronic version of the guidance document may be downloaded by accessing the FHWA Web site at http://safety.fhwa.dot.gov/rlcguide/index.htm and/or the NHTSA Web site at http://www.nhtsa.dot.gov/people/injury/enforce/guidance03/introduction.htm.

Background

The use of red light cameras for the enforcement of red light running violations at signalized intersections is becoming increasingly widespread in the United States, beginning with the first U.S. installation in New York City in 1992, and reaching more than 75 jurisdictions by the end of 2002. ¹ State and local agencies have found that the use of red light cameras can reduce red light running violations by motorists from 20 percent to over 50 percent .² The rapid deployment of red light cameras across the United States has been viewed by some as a single, fix-all, solution to the growing concerns about red light running and crashes attributable to red light running. This belief may lead to the inappropriate use of red light camera systems and inaccurate assessment of actual intersection safety problems.

¹ Insurance Institute of Highway Safety, Red Light Camera in Action, is available at the following URL: http://www.hwysafety.org/safety%5Ffacts/rlc_cities.htm.

² Public Technology, Inc, “Is Photo Enforcement For You? A White Paper for Public Officials”, is available for purchase at the following URL: http://www.pti.org .

Appearance of fairness in the use of red light cameras, in a broader perspective, can provide support for other forms of technology used to improve transportation operations and safety. Therefore, the FHWA and NHTSA have developed guidance on the implementation and operation of red light camera systems in the United States. Although not a regulatory requirement, the guidance is intended to provide relevant information on implementation and operational concerns of red light camera systems to State and local agencies in order to promote consistency nationwide and to ensure that this effective tool, and other forms of technology, remain available to transportation agencies around the nation.

The guidance is designed to assist State and local agency managers, transportation engineers, and law enforcement officials in identifying and addressing safety problems resulting from red light running within their jurisdictions. The guidance provides proven and effective practices that have been implemented throughout the United States, and generally provides procedures that can be followed to ensure that effective, efficient and fair solutions are implemented.

Conclusion

The FHWA and the NHTSA provide this guidance as a tool for those jurisdictions interested in implementing red light camera systems. This guidance identifies the recommended circumstances and methods by which red light cameras should be installed. The guidance, “Red Light Camera System Guidance” is available electronically at the following URLs: http://safety.fhwa.dot.gov/rlrcguide.htm and http://www.nhtsa.dot.gov/people/injury/enforce/guidance03/introduction.htm and it is available for copying and inspection at the U.S. Department of Transportation Library, Room 2200, 400 Seventh Street, SW., Washington, DC 20590.

Authority: 23 U.S.C. 401; 49 CFR 1.48(n); 49 CFR 1.50(b).

Issued on: May 2, 2003.
Jeffrey W. Runge,
Administrator, National Highway Traffic Safety Administration.
J. Richard Capka,
Deputy Federal Highway Administrator.

[FR Doc. 03-11780 Filed 5-12-03; 8:45 am]

BILLING CODE 4910-22-P